DEPARTMENT OF HEALTH AND HUMAN SERVICES

Health Resources and Services Administration

Advisory Council on Blood Stem Cell Transplantation; Notice of Meeting

In accordance with section 10(a)(2) of the Federal Advisory Committee Act (Pub. L. 92-463), notice is hereby given of the following meeting:

Name: Advisory Council on Blood Stem Cell Transplantation.

Date and Times: May 9, 2012, 8 a.m. to 4:30 p.m.

Place: Georgetown University Hotel and Conference Center, 3800 Reservoir Road NW., Washington, DC 20057.

Status: The meeting will be open to the public.

Purpose: Pursuant to Public Law 109-129, 42 U.S.C. 274k (section 379 of the Public Health Service Act, as amended), the Advisory Council on Blood Stem Cell Transplantation (ACBSCT) advises the Secretary of HHS and the Administrator, HRSA, on matters related to the activities of the C.W. Bill Young Cell Transplantation Program (Program) and the National Cord Blood Inventory (NCBI) Program.

Agenda: The Council will hear reports from five ACBSCT Work Groups: (1) Realizing the Potential of Cord Blood, (2) Scientific Factors Necessary to Define a Cord Blood Unit as High Quality, (3) Cord Blood Thawing and Washing, (4) Access to Transplantation, and (5) Advancing Hematopoietic Stem Cell Transplantation for Hemoglobinopathies. The Council also will hear presentations and discussions on topics including: Collection of information on Cellular Therapies; Adverse Event Reporting; and Unmet Need. Agenda items are subject to change as priorities dictate.

After the presentations and Council discussions, members of the public will have an opportunity to provide comments. Because of the Council's full agenda and the timeframe in which to cover the agenda topics, public comments will be limited. All public comments will be included in the record of the ACBSCT meeting. Meeting summary notes will be made available on HRSA's Program Web site at http://bloodcell.transplant.hrsa.gov/ABOUT/Advisory_Council/index.html.

Those planning to attend are requested to register in advance and those wishing to make oral comments should so indicate. The draft meeting agenda and a registration form will be available on HRSA's Program Web site at http://bloodcell.transplant.hrsa.gov/ABOUT/Advisory_Council/index.html.

Registration also can be completed electronically at https://www.acbsct.com or by sending an email to Tristan Alexander Hicks at TAlexander@luxcg.com. Individuals without access to the Internet who wish to register may call Tristan Alexander Hicks at (301) 585-1261 or submit a facsimile to Lux Consulting Group, Inc., the logistical support contractor for the meeting, at fax number (301) 585-7741, Attn: Tristan Alexander Hicks.

FOR FURTHER INFORMATION CONTACT: Patricia Stroup, Executive Secretary, Healthcare Systems Bureau, Health Resources and Services Administration, 5600 Fishers Lane, Room 12C-06, Rockville, Maryland 20857; telephone (301) 443-1127.

Dated: April 10, 2012.
Reva Harris,
Acting Director, Division of Policy and Information Coordination.

[FR Doc. 2012-9135 Filed 4-16-12; 8:45 am]

BILLING CODE 4165-15-P